DEPARTMENT OF STATE

[Public Notice: 7293]

Request for Information for the 2011 Trafficking in Persons Report

SUMMARY: The Department of State (“the Department”) requests written information to assist in reporting on the degree to which the United States and foreign governments comply with the minimum standards for the elimination of trafficking in persons (“minimum standards”) that are prescribed by the Trafficking Victims Protection Act of 2000, (Div. A, Pub. L. 106-386) as amended (“TVPA”). This information will assist in the preparation of the Trafficking in Persons Report (“TIP Report”) that the Department submits annually to appropriate committees in the U.S. Congress on countries' level of compliance with the minimum standards. Foreign governments that do not comply with the minimum standards and are not making significant efforts to do so may be subject to restrictions on nonhumanitarian, nontrade-related foreign assistance from the United States. Submissions must be made in writing to the Office to Monitor and Combat Trafficking in Persons at the Department of State by February 15, 2011. Please refer to the Addresses, Scope of Interest and Information Sought sections of this Notice for additional instructions on submission requirements.

DATES: Submissions must be received by the Office to Monitor and Combat Trafficking in Persons by 5 p.m. on February 15, 2011.

ADDRESSES: Written submissions and supporting documentation may be submitted to the Office to Monitor and Combat Trafficking in Persons by the following methods:

• Facsimile (fax): 202-312-9637

• Mail, Express Delivery, Hand Delivery and Messenger Service: U.S. Department of State, Office to Monitor and Combat Trafficking in Persons, 1800 G Street, NW., Suite 2148, Washington, DC 20520. Please note that materials submitted by mail may be delayed due to security screenings and processing.

• Email (preferred): tipreport@state.gov for submissions related to foreign governments and tipreportUS@state.gov for submissions related to the United States.

Scope of Interest: The Department requests information relevant to assessing the United States' and foreign governments' compliance with the minimum standards for the elimination of trafficking in persons in the year 2010. The minimum standards for the elimination of trafficking in persons are listed in the Background section. Submissions must include information relevant and probative of the minimum standards for the elimination of trafficking in persons and should include, but need not be limited to, answering the questions in the Information Sought section. These questions are designed to elicit information relevant to the minimum standards for the elimination of trafficking in persons. Only those questions for which the submitter has direct professional experience should be answered and that experience should be noted. For any critique or deficiency described, please provide a recommendation to remedy it. Note the country or countries that are the focus of the submission.

Submissions may include written narratives that answer the questions presented in this Notice, research, studies, statistics, fieldwork, training materials, evaluations, assessments and other relevant evidence of local, state and federal government efforts. To the extent possible, precise dates should be included.

Where applicable, written narratives providing factual information should provide citations to sources and copies of the source material should be provided. If possible, send electronic copies of the entire submission, including source material. If primary sources are utilized, such as research studies, interviews, direct observations, or other sources of quantitative or qualitative data, details on the research or data-gathering methodology should be provided. The Department does not include in the report, and is therefore not seeking, information on prostitution, human smuggling, visa fraud, or child abuse, unless such conduct occurs in the context of human trafficking.

Confidentiality: Please provide the name, phone number and email address of a single point of contact for any submission. It is Department practice not to identify in the TIP Report information concerning sources in order to safeguard those sources. Please note, however, that any information submitted to the Department may be releasable pursuant to the provisions of the Freedom of Information Act or other applicable law. When applicable, portions of submissions relevant to efforts by other U.S. government agencies may be shared with those agencies.

Response: This is a request for information only; there will be no response to submissions.

SUPPLEMENTARY INFORMATION:

I. Background

The TIP Report: The TIP Report is the most comprehensive worldwide report on foreign governments' efforts to combat trafficking in persons. It represents an updated, global look at the nature and scope of trafficking in persons and the broad range of government actions to confront and eliminate it. The U.S. Government uses the TIP Report to engage in public diplomacy to encourage partnership in creating and implementing laws and policies to combat trafficking and to target resources on prevention, protection and prosecution programs. Worldwide, the report is used by international organizations, foreign governments, and nongovernmental organizations alike as a tool to examine where resources are most needed. Freeing victims, preventing trafficking, and bringing traffickers to justice are the ultimate goals of the report and of the U.S government's anti-human trafficking policy.

The Department prepares the TIP Report using information from across the U.S. Government, U.S. Embassies, foreign government officials, nongovernmental and international organizations, published reports, and research trips to every region. The TIP Report focuses on concrete actions that governments take to fight trafficking in persons, including prosecutions, convictions, and prison sentences for traffickers as well as victim protection measures and prevention efforts. Each TIP Report narrative also includes a section on recommendations. These recommendations are then used to assist in measuring progress from one year to the next and determining whether governments comply with the minimum standards to eliminate trafficking in persons or are making significant efforts to do so.

The TVPA creates a three tier ranking system. This placement is based more on the extent of government action to combat trafficking than on the size of the problem, although that is also an important factor. The Department first evaluates whether the government fully complies with the TVPA's minimum standards for the elimination of trafficking. Governments that fully comply are placed on Tier 1. For other governments, the Department considers the extent of efforts to reach compliance. Governments that are making significant efforts to meet the minimum standards are placed on Tier 2. Governments that do not fully comply with the minimum standards and are not making significant efforts to do so are placed on Tier 3. Finally, the Department considers Special Watch List criteria and, when applicable, moves Tier 2 countries to Tier 2 Watch List. For more information, the 2010 TIP Report can be found at http://www.state.gov/g/tip/rls/tiprpt/2010/index.htm.

Since the inception of the TIP Report in 2001, the number of countries included and ranked has more than doubled to include 177 countries in the 2010 TIP Report. The number of countries on Tier 1 has grown from 12 to 30 and the number of countries on Tier 3 has decreased from 23 to 12. Around the world, the TIP Report and the best practices reflected therein have inspired legislation, national action plans, implementation of policies and funded programs, protection mechanisms that complement prosecution efforts, and a comprehensive understanding of the issue.

Since 2003, the primary reporting on the United States' anti-trafficking activities has been through the Attorney General's Report to Congress and Assessment of U.S. Government Activities to Combat Human Trafficking (“AG Report”) mandated by section 105 of the TVPA (22 U.S.C. 7103(d)(7)). The United States voluntarily, through a collaborative interagency process, includes in the TIP Report an analysis of U.S. government anti-trafficking efforts in light of the minimum standards to eliminate trafficking in persons set forth by the TVPA. This analysis in the TIP report is done in addition to the AG Report, resulting in a multi-faceted self-assessment process of expanded scope.

II. Minimum Standards for the Elimination of Trafficking in Persons

The TVPA sets forth the minimum standards for the elimination of trafficking in persons as follows:

(1) The government of the country should prohibit severe forms of trafficking in persons and punish acts of such trafficking.

(2) For the knowing commission of any act of sex trafficking involving force, fraud, coercion, or in which the victim of sex trafficking is a child incapable of giving meaningful consent, or of trafficking which includes rape or kidnapping or which causes a death, the government of the country should prescribe punishment commensurate with that for grave crimes, such as forcible sexual assault.

(3) For the knowing commission of any act of a severe form of trafficking in persons, the government of the country should prescribe punishment that is sufficiently stringent to deter and that adequately reflects the heinous nature of the offense.

(4) The government of the country should make serious and sustained efforts to eliminate severe forms of trafficking in persons.

The following factors should be considered as indicia of serious and sustained efforts to eliminate severe forms of trafficking in persons:

(1) Whether the government of the country vigorously investigates and prosecutes acts of severe forms of trafficking in persons, and convicts and sentences persons responsible for such acts, that take place wholly or partly within the territory of the country, including, as appropriate, requiring incarceration of individuals convicted of such acts. For purposes of the preceding sentence, suspended or significantly reduced sentences for convictions of principal actors in cases of severe forms of trafficking in persons shall be considered, on a case-by-case basis, whether to be considered as an indicator of serious and sustained efforts to eliminate severe forms of trafficking in persons. After reasonable requests from the Department of State for data regarding investigations, prosecutions, convictions, and sentences, a government which does not provide such data, consistent with the capacity of such government to obtain such data, shall be presumed not to have vigorously investigated, prosecuted, convicted or sentenced such acts. During the periods prior to the annual report submitted on June 1, 2004, and on June 1, 2005, and the periods afterwards until September 30 of each such year, the Secretary of State may disregard the presumption contained in the preceding sentence if the government has provided some data to the Department of State regarding such acts and the Secretary has determined that the government is making a good faith effort to collect such data.

(2) Whether the government of the country protects victims of severe forms of trafficking in persons and encourages their assistance in the investigation and prosecution of such trafficking, including provisions for legal alternatives to their removal to countries in which they would face retribution or hardship, and ensures that victims are not inappropriately incarcerated, fined, or otherwise penalized solely for unlawful acts as a direct result of being trafficked, including by providing training to law enforcement and immigration officials regarding the identification and treatment of trafficking victims using approaches that focus on the needs of the victims.

(3) Whether the government of the country has adopted measures to prevent severe forms of trafficking in persons, such as measures to inform and educate the public, including potential victims, about the causes and consequences of severe forms of trafficking in persons, measures to establish the identity of local populations, including birth registration, citizenship, and nationality, measures to ensure that its nationals who are deployed abroad as part of a peacekeeping or other similar mission do not engage in or facilitate severe forms of trafficking in persons or exploit victims of such trafficking, and measures to prevent the use of forced labor or child labor in violation of international standards.

(4) Whether the government of the country cooperates with other governments in the investigation and prosecution of severe forms of trafficking in persons.

(5) Whether the government of the country extradites persons charged with acts of severe forms of trafficking in persons on substantially the same terms and to substantially the same extent as persons charged with other serious crimes (or, to the extent such extradition would be inconsistent with the laws of such country or with international agreements to which the country is a party, whether the government is taking all appropriate measures to modify or replace such laws and treaties so as to permit such extradition).

(6) Whether the government of the country monitors immigration and emigration patterns for evidence of severe forms of trafficking in persons and whether law enforcement agencies of the country respond to any such evidence in a manner that is consistent with the vigorous investigation and prosecution of acts of such trafficking, as well as with the protection of human rights of victims and the internationally recognized human right to leave any country, including one's own, and to return to one's own country.

(7) Whether the government of the country vigorously investigates, prosecutes, convicts, and sentences public officials who participate in or facilitate severe forms of trafficking in persons, including nationals of the country who are deployed abroad as part of a peacekeeping or other similar mission who engage in or facilitate severe forms of trafficking in persons or exploit victims of such trafficking, and takes all appropriate measures against officials who condone such trafficking. After reasonable requests from the Department of State for data regarding such investigations, prosecutions, convictions, and sentences, a government which does not provide such data consistent with its resources shall be presumed not to have vigorously investigated, prosecuted, convicted, or sentenced such acts. During the periods prior to the annual report submitted on June 1, 2004, and on June 1, 2005, and the periods afterwards until September 30 of each such year, the Secretary of State may disregard the presumption contained in the preceding sentence if the government has provided some data to the Department of State regarding such acts and the Secretary has determined that the government is making a good faith effort to collect such data.

(8) Whether the percentage of victims of severe forms of trafficking in the country that are non-citizens of such countries is insignificant.

(9) Whether the government of the country, consistent with the capacity of such government, systematically monitors its efforts to satisfy the criteria described in paragraphs (1) through (8) and makes available publicly a periodic assessment of such efforts.

(10) Whether the government of the country achieves appreciable progress in eliminating severe forms of trafficking when compared to the assessment in the previous year.

(11) Whether the government of the country has made serious and sustained efforts to reduce the demand for (A) commercial sex acts; and (B) participation in international sex tourism by nationals of the country.

III. Information Sought Relevant to the Minimum Standards

Submissions should include, but need not be limited to, answers to relevant questions below for which the submitter has direct professional experience and that experience should be noted. Citations to source material must also be provided. Note the country or countries that are the focus of the submission. Please see the Scope of Interest section for detailed information regarding submission requirements.

1. How have trafficking methods changed in the past 12 months? e.g. Are there victims from new countries of origin? Is internal trafficking or child trafficking increasing? Has sex trafficking changed from brothels to private apartments? Is labor trafficking now occurring in additional types of industries or agricultural operations? Is forced begging a problem?

2. In what ways has the government's efforts to combat trafficking in persons changed in the past year? What new laws, regulations, policies and implementation strategies exist? e.g. substantive criminal laws and procedures, mechanisms for civil remedies, victim-witness security generally and in relation to court proceedings.

3. Please provide observations regarding the implementation of existing laws and procedures.

4. Is the government equally vigorous in pursuing labor trafficking and sex trafficking?

5. Are the anti-trafficking laws and sentences strict enough to reflect the nature of the crime? Are sex trafficking sentences commensurate with rape sentences?

6. Do government officials understand the nature of trafficking? If not, please provide examples of misconceptions or misunderstandings.

7. Do judges appear appropriately knowledgeable and sensitized to trafficking cases? What sentences have courts imposed upon traffickers? How common are suspended sentences and prison time of less than one year for convicted traffickers?

8. Please provide observations regarding the efforts of police and prosecutors to pursue trafficking cases.

9. Are government officials (including law enforcement) complicit in human trafficking by, for example, profiting from, taking bribes or receiving sexual services for allowing it to continue? Are government officials operating trafficking rings or activities? If so, have these government officials been subject to an investigation and/or prosecution? What punishments have been imposed?

10. Has the government vigorously investigated, prosecuted, convicted and sentenced nationals of the country deployed abroad as part of a peacekeeping or other similar mission who engage in or facilitate trafficking?

11. Has the government investigated, prosecuted, convicted and sentenced organized crime groups that are involved in trafficking?

12. Is the country a source of sex tourists and, if so, what are their destination countries? Is the country a destination for sex tourists and, if so, what are their source countries?

13. Please provide observations regarding government efforts to address the issue of unlawful child soldiering.

14. Does the government make a coordinated, proactive effort to identify victims? Is there any screening conducted before deportation to determine whether individuals were trafficked?

15. What victim services are provided (legal, medical, food, shelter, interpretation, mental health care, health care, repatriation)? Who provides these services? If nongovernment organizations provide the services, does the government support their work either financially or otherwise?

16. How could victim services be improved?

17. Are services provided equally and adequately to victims of labor and sex trafficking? Men, women and children? Citizen and noncitizen?

18. Do service organizations and law enforcement work together cooperatively, for instance, to share information about trafficking trends or to plan for services after a raid? What is the level of cooperation, communication and trust between service organizations and law enforcement?

19. May victims file civil suits or seek legal action against their trafficker? Do victims avail themselves of those remedies?

20. Does the government repatriate victims? Does the government assist with third country resettlement? Does the government engage in any analysis of whether victims may face retribution or hardship upon repatriation to their country of origin? Are victims awaiting repatriation or third country resettlement offered services? Are victims indeed repatriated or are they deported?

21. Does the government inappropriately detain or imprison identified trafficking victims?

22. Does the government punish trafficking victims for forgery of documents, illegal immigration, unauthorized employment, or participation in illegal activities directed by the trafficker?

23. What efforts has the government made to prevent human trafficking?

24. Are there efforts to address root causes of trafficking such as poverty; lack of access to education and economic opportunity; and discrimination against women, children and minorities?

25. Does the government undertake activities that could prevent or reduce vulnerability to trafficking, such as registering births of indigenous populations?

26. Does the government provide financial support to NGOs working to promote public awareness or does the government implement such campaigns itself? Have public awareness campaigns proven to be effective?

27. Please provide additional recommendations to improve the government's anti-trafficking efforts.

28. Please highlight effective strategies and practices that other governments could consider adopting.

Dated: January 6, 2011.
Luis CdeBaca,
Ambassador-at-Large, Office to Monitor and Combat Trafficking in Persons, U.S. Department of State.

[FR Doc. 2011-354 Filed 1-10-11; 8:45 am]

BILLING CODE 4710-02-P